ENVIRONMENTAL PROTECTION AGENCY

[ER-FRL-6617-1]

Environmental Impact Statements; Notice of Availability

Responsible Agency: Office of Federal Activities, General Information (202) 564-7167 or www.epa.gov/oeca/ofa.

Weekly receipt of Environmental Impact Statements

Filed April 2, 2001 Through April 6, 2001

Pursuant to 40 CFR 1506.9.

EIS No. 010105, Draft EIS, AFS, FL, Ocklawaha River Restoration Project, Continued Occupation of Florida National Forest Lands, Portions of Kirkpatrick Dam, Rodamn Reservoir and Eureka Lock and Dam in Conjunction with Partial Restoration of the Ocklawaha River, Operation and Maintenance, Permit Issuance and Implementation, Marion and Putnam Counties, FL, Comment Period Ends: June 29, 2001, Contact George Hemingway (850) 942-9364.

EIS No. 010106, Draft EIS, AFS, MT, Lolo National Forest, Big Game Winter Range and Burned Area Management, Restoration, Prevention and Cooperation, Implementation, Missoula, Lake, Mineral, Sanders, Granite, Powell, Lewis and Clark, Flathead and Ravalli Counties, MT, Comment Period Ends: May 29, 2001, Contact: Andy Kulla (406) 329-3962.

EIS No. 010107, Draft EIS, AFS, NM, Santa Fe National Forest, Santa Fe Municipal Watershed Project, Severe Crown Fire Reduction and Sustainable Forest and Watershed Conditions Restoration, Implementation, Pecos Wilderness to Cochitti Lake, Santa Fe National Forest, Santa Fe County, NM, Comment Period Ends: May 29, 2001, Susan Bruin (505) 438-7829.

EIS No. 010108, Draft EIS, FRC, FL, MS, AL, Florida Gas Transmission (FGT) Phase V Expansion Project, FGT Natural Gas Pipeline and Associated Above Ground Facilities, Construction and Operation, Approvals and Permit Issuance, several counties of FL, AL and MS, Comment Period Ends: May 29, 2001, Contact David Boergers (202) 208-2088.

EIS No. 010109, Final EIS, FHW, MD, Middle River Employment Center Access Study, Transportation Improvements, NPDES and US COE Section 404 Permits Issuance, Baltimore County, MD, Wait Period Ends: May 14, 2001, Contact: Mary Huie (410) 962-4342, Ext 148.

EIS No. 010110, Draft EIS, COE, LA, West Bay Sediment Diversion Channel Project, Construction, Funding, Plaquemines Parish, LA, Comment Period Ends: May 29, 2001, Contact Sean P. Mickal (504) 862-2319.

EIS No. 010111, Draft EIS, BOP, LA, Pollock Federal Correctional Institution, Construction and Operation, near Town of Pollock, Grant Parish, LA, Comment Period Ends: May 29, 2001, David J. Dorworth (202) 514-6470.

EIS No. 010112, Revised Final EIS, AFS, ID, Idaho Panhandle National Forests, Revision to the Small Sales, Harvesting Dead and Damaged Timber, Coeur d'Alene River Range District, Kootenai and Shoshone Counties, ID, Wait Period Ends: May 14, 2001, Contact: Bob Rehnborg (208) 664-2318.

EIS No. 010113, Draft EIS, FTA, CA, Mid-City/Westside Transit Corridor Improvements, Wilshire Bus Rapid Transit and Exposition Transitway, Construction and Operation, Funding, and Section 404 Permit, Los Angeles County, CA, Comment Period Ends: June 15, 2001, Contact: Ervin Polka (213) 202-3952.

EIS No. 010114, Draft EIS, BLM, NM, San Felipe Pueblo Land Exchange, Federal Lands to Private Lands, Acquisition, Sandoval and Santa Fe Cos. NM, Comment Period Ends: June 05, 2001, Contact: Debby Lucero (505) 761-8787.

EIS No. 010115, Final EIS, AFS, ID, Myrtle-Cascade Project Area, Implementation of Resource Management Activities, Idaho Panhandle National Forests, Bonners Ferry Ranger District, Boundary County, ID, Wait Period Ends: May 14, 2001, Pat Behresn (208) 267-6743.

EIS No. 010116, Draft EIS, BLM, CA, Northern and Eastern Mojave Planning Area (NEMO), Implementation, California Desert Conservation Area Plan Amendments, Mojave Desert, CA, Comment Period Ends: July 13, 2001, Contact: Edythe Seehafer (706) 252-6021.

EIS No. 010117, Final Supplement, IBR, CA, San Joaquin River Agreement Project, Implementation of the Meeting Flow Objectives for 1999-2010, Vernalis Adaptive Management Plan, San Joaquin, Stanislaus, Madera, Merced, Fresno and Tuolume Counties, CA, Wait Period Ends: May 14, 2001, Contact: Burke (916) 978-5556.

EIS No. 010118, Draft EIS, NPS, CA, Alcatraz Island Historic Preservation and Safety Construction Program, Protection and Implementation, San Francisco County, CA, Comment Period Ends: June 11, 2001, Contact: Jonathan Gervais (415) 561-4936.

EIS No. 010119, Final EIS, AFS, WA, Deadman Creek Ecosystem Management Projects, Sediment Delivered to Streams, Roads in Key Habitat and Noxious Weeds Reduction and Forest Stands Treatment, Implementation, Kettle Falls Ranger District, Colville National Forest, Ferry County, WA, Wait Period Ends: May 14, 2001, Contact: Sherri K. Schwenke (509) 738-7700.

Amended Notices

EIS No. 010095, Draft EIS, AFS, CO, Nucla-Telluride Transmission Line Project, Permit Approval and Funding for Construction and Operation of a 115 kV Transmission Line between the Nucla Substation in Montrose County and either the Telluride or Sunshine Substations in San Miguel County, CO, Comment Period Ends: May 31, 2001, Contact: Steve Wells (970) 327-4261. Revision of FR Notice Published on 03/30/2001: CEQ Review Period Ending 05/14/2001 has been Extended to 05/31/2001.

Dated: April 10, 2001.
Joseph C. Montgomery,
Director, NEPA Compliance Division, Office of Federal Activities.

[FR Doc. 01-9241 Filed 4-12-01; 8:45 am]

BILLING CODE 6560-50-P